DEPARTMENT OF THE INTERIOR

Fish and Wildlife Service

[FWS-R4-R-2010-N025; 40136-1265-0000-S3]

Cape Romain National Wildlife Refuge, Charleston County, SC

AGENCY: Fish and Wildlife Service, Interior.

ACTION: Notice of availability: Draft comprehensive conservation plan and environmental assessment; request for comments.

SUMMARY: We, the U.S. Fish and Wildlife Service (Service), announce the availability of a draft comprehensive conservation plan and environmental assessment (Draft CCP/EA) for Cape Romain National Wildlife Refuge (NWR) for public review and comment. In this Draft CCP/EA, we describe the alternative we propose to use to manage this refuge for the 15 years following approval of the final CCP.

DATES: To ensure consideration, we must receive your written comments by June 1, 2010.

ADDRESSES: Send comments, questions, and requests for information to: Ms. Raye Nilus, Project Leader, Cape Romain NWR, 5801 Highway 17 North, Awendaw, SC 29429; e-mail: caperomainccp@fws.gov. The Draft CCP/EA is available on compact disc or in hard copy. You may also access and download a copy of the Draft CCP/EA from the Service's Internet site: http://southeast.fws.gov/planning/.

FOR FURTHER INFORMATION CONTACT: Ms. Laura Housh; telephone: 912/496-7366, Extension 244.

SUPPLEMENTARY INFORMATION:

Introduction

With this notice, we continue the CCP process for Cape Romain NWR. We started this process through a notice in the Federal Register on January 3, 2007 (72 FR 141).

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

CCP Alternatives, Including our Proposed Alternative

We developed three alternatives for managing the refuge and chose Alternative C as the proposed alternative. A full description is in the Draft CCP/EA. We summarize each alternative below.

Alternative A: Continuation of Current Refuge Management (No Action)

This alternative represents no change from current management of the refuge. Management emphasis would continue to focus on loggerhead sea turtle recovery and maintaining existing wetland impoundments for wintering waterfowl, shorebirds, and wading birds. Primary management activities would include managing wetland impoundments, managing maritime forests for neotropical migratory birds, monitoring basic species, and relocating sea turtle nests. Alternative A represents the anticipated conditions of the refuge for the next 15 years, assuming current funding, staffing, policies, programs, and activities continue.

This alternative would include actions to manage habitat for resident and wintering shorebirds, waterfowl, foraging wood storks, and over-wintering piping plovers. It also would provide opportunities for wildlife-dependent recreation; however, some areas would only be seasonally opened. Hunting and fishing would be allowed and would follow State regulations. Environmental education and interpretation programs would continue. Species monitoring would be limited due to staffing constraints, lack of volunteer assistance, and limited research interest. Habitat management actions would primarily benefit sea turtles, wading birds, shorebirds, and waterfowl; however, there is limited active management of other species and habitats.

The refuge would remain staffed at current levels, with the use of periodic interns. Researchers would be accommodated when projects benefit the refuge.

Alternative B

This alternative expands on Alternative A with an increase of habitat and species management efforts. The focus of this alternative is to enhance suitable habitat under species-specific management and to increase monitoring efforts. We would control invasive exotic plant species to help increase populations of neotropical migratory birds and breeding songbirds to higher levels than under Alternative A. We would increase efforts to monitor populations of secretive marsh birds, and we would conduct nesting surveys of shorebirds, sea birds, and wading birds. Alternative B would continue waterfowl and shorebird monitoring, with additional effort placed on monitoring marsh birds and wading birds by conducting nesting surveys. Monitoring efforts would occur based on available staffing, additional volunteers, and academic research.

Wildlife-dependent recreation would continue. Hunting and fishing would continue to be allowed and environmental education and interpretation enhanced with messages regarding climate change and sea level rise. Interpretive signage would be increased or added to existing nature trails. There would be restricted access to some areas of the refuge that have birds or threatened and endangered species sensitive to disturbance. Interpretation efforts would focus mostly on the primary objectives of migratory birds and threatened and endangered species.

The refuge would be staffed at current levels plus the addition of a wildlife refuge specialist and a biologist to carry out the increased habitat management and monitoring needs. Researchers would be accommodated when projects benefit the refuge and focus mostly on shorebirds and habitat management.

Alternative C: (Proposed Alternative)

This alternative expands on Alternative A with a greater amount of effort to increase overall wildlife and habitat quality. Although management of sea turtles, waterfowl, threatened and endangered species, and migratory birds would remain a focus of the refuge, wetland habitat manipulations would also consider the needs of multiple species, such as marsh and wading birds. Maritime forests and fields for neotropical migratory birds would be more actively managed. Landscape-level consideration of habitat management would include identifying areas of important habitat that would become critical to wildlife as sea level rises and reduces habitat currently on the refuge. Multiple species consideration would include species and habitats identified by the South Atlantic Migratory Bird Initiative and the State's Strategic Conservation Plan.

This alternative would expand the monitoring efforts under Alternative A to provide additional, active efforts to monitor and survey migratory neotropical and breeding songbirds, secretive marsh birds, and plants. Monitoring efforts would be increased with the assistance of additional staff, trained volunteers, and academic research. Greater effort would be made to recruit academic researchers to the refuge to study and monitor resources.

Wildlife-dependent recreational uses of the refuge would continue. Hunting and fishing would continue to be allowed. However, hunting would be managed with a greater focus to achieve biological needs of the refuge such as deer population management. Environmental education and interpretation would be the same as under Alternative A, but with additional education and outreach efforts aimed at the importance of climate change, sea level rise, and wilderness. A significantly greater effort would be made with outreach to nearby developing urban communities and a growing human population. Existing environmental education programs, such as the Earth Stewards Program, conducted in concert with the SEWEE Association, the refuge friends group, would be expanded to include additional elementary schools, students, and teachers.

The refuge would be staffed at current levels plus the addition of a wildlife refuge specialist and two biologists to carry out the increased habitat management and monitoring needs. An additional park ranger would be hired to enhance visitor services and environmental education programs. Greater emphasis would be placed on recruiting and training volunteers, and worker-camper opportunities would be expanded to facilitate the accomplishment of refuge maintenance programs and other refuge goals and objectives. The refuge's biological programs would actively seek funding and researchers to study primarily management-oriented needs. Refuge staff would place greater emphasis on developing and maintaining active partnerships, including seeking grants to assist the refuge in reaching primary objectives.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority

This notice is published under the authority of the National Wildlife Refuge System Improvement Act of 1997, Public Law 105-57.

Dated: February 24, 2010.
Mark J. Musaus,
Acting Regional Director.

[FR Doc. 2010-10089 Filed 4-29-10; 8:45 am]

BILLING CODE 4310-55-P